DEPARTMENT OF TRANSPORTATION

Coast Guard

33 CFR Part 165

[CGD01-00-160]

RIN 2115-AA97

Safety Zone: Hudson Valley Triathlon, Hudson River, Ulster Landing, NY

AGENCY: Coast Guard, DOT.

ACTION: Temporary final rule.

SUMMARY: The Coast Guard is establishing a temporary safety zone for the annual Hudson Valley Triathlon swim located on the Hudson River. This action is necessary to provide for the safety of life on navigable waters during the event. This action is intended to restrict vessel traffic in a portion of the Hudson River.

DATES: This rule is effective from 6:30 a.m. (e.s.t.) until 8:30 a.m. (e.s.t.) on July 9, 2000.

ADDRESSES: Comments and material received from the public, as well as documents indicated in this preamble as being available in the docket, are part of docket (CGD01-00-160) and are available for inspection or copying at Coast Guard Activities New York, 212 Coast Guard Drive, room 204, Staten Island, New York 10305, between 8 a.m. and 3 p.m., Monday through Friday, except Federal holidays. The telephone number is (718) 354-4012.

FOR FURTHER INFORMATION CONTACT: Lieutenant M. Day, Waterways Oversight Branch, Coast Guard Activities New York (718) 354-4012.

SUPPLEMENTARY INFORMATION:

Regulatory Information

We did not publish a notice of proposed rulemaking (NPRM) for this regulation. Under 5 U.S.C. 553(b)(8), the Coast Guard finds that good cause exists for not publishing an NPRM. Good cause exists for not publishing an NPRM due to the date the Application for Approval of Marine Event was received, there was insufficient time to draft and publish an NPRM. Special Local Regulations have been published for this event in 33 CFR 100.121 for the same date. The location of this year's event has been moved 3.5 nautical miles north in the vicinity of Barrytown Reach, north of the Kingston-Rhinecliff Bridge. The safety zone encompasses about 800 yards of Barrytown Reach and is about 1,000 yards smaller than the permanent area, and it is also scheduled to start and finish 30 minutes earlier as compared to the current regulations. Further, it is a annual, local event, recreational vessels may still transit to the east of the zone during the event, the zone is only in affect for 2 hours, and commercial traffic is not heavy in this area of the Hudson River. It is expected that no more than 1 or 2 commercial vessels may be affected by this event. Due to the publication of this annual event in the Local Notice to Mariners, commercial traffic will be able to adjust their transit time to arrive before or after the event. Any delay encountered in this regulation's effective date would be unnecessary and contrary to public interest since immediate action is needed to close the waterway and protect swimmers and the maritime public from the hazards associated with 500 athletes competing in the swimming portion of the Hudson Valley Triathlon.

Under 5 U.S.C. 553(d)(3), the Coast Guard finds that good cause exists for making this rule effective less than 30 days after publication in the Federal Register. This is due to the following reasons: Special Local Regulations have been published for this event in 33 CFR 100.121 for the same date. The location of this year's event has been moved 3.5 nautical miles north in the vicinity of Barrytown Reach, north of the Kingston-Rhinecliff Bridge. It encompasses about 800 yards of Barrytown Reach and is about 1,000 yards smaller than the permanent area, it is also scheduled to start and finish 30 minutes earlier, as compared to the current regulations. Further, it is a annual local event, recreational vessels may still transit to the east of the zone during the event, the zone is only in effect for 2 hours, and commercial traffic is not heavy in this area of the Hudson River. It is expected that no more than 1 or 2 commercial vessels may be affected by this event. Due to the publication of this annual event in the Local Notice to Mariners, commercial traffic will be able to adjust their transit time to arrive before or after the event. Any delay encountered in this regulation's effective date would be unnecessary and contrary to public interest since immediate action is needed to close the waterway and protect swimmers and the maritime public from the hazards associated with 500 athletes competing in the swimming portion of the Hudson Valley Triathlon.

Background and Purpose

The Coast Guard has received an application to hold a triathlon swim on the waters of the Hudson River. This regulation establishes a safety zone in all waters of the Hudson River, in the vicinity of Ulster Landing, bound by the following points: 41°59′52.5′′ N 073°56′34.2′′ W (about 150 yards south of Hudson River Lighted Buoy 82 (LLNR 38325)), thence to 42°00′15.1′′ N 073°56′25.2′′ W, thence to 42°00′05.4′′ N 073°56′41.9′′ W, thence to 42°00′03.7′′ N 073°56′43.1′′ W, (NAD 1983), thence back to the point of beginning, in the northern end of Barrytown Reach. The safety zone is in effect from 6:30 a.m. (e.s.t.) until 8:30 a.m. (e.s.t.) on Sunday, July 9, 2000. There is no rain date for this event. The safety zone prevents vessels from transiting a portion of the Hudson River. It is needed to protect swimmers and boaters from the hazards associated with 500 swimmers competing in a confined area of the Hudson River. Recreational vessels can still transit to the east of the zone during the event and will not be precluded from mooring at or getting underway from recreational piers in the vicinity of the zone. Commercial vessels will be precluded from transiting the area because the safety zone encompasses about 800 yards of Barrytown Reach and there is no viable alternative route. Public notifications will be made prior to the event via the Local Notice to Mariners.

Special Local Regulations have been published for this event in 33 CFR 100.121 for the same date. The location of this year's event has been moved 3.5 nautical miles north in the vicinity of Barrytown Reach, north of the Kingston-Rhinecliff Bridge. It encompasses about 800 yards of Barrytown Reach and is about 1,000 yards smaller than the permanent area, it is also scheduled to start and finish 30 minutes earlier, as compared to the current regulations.

Regulatory Evaluation

This final rule is not a significant regulatory action under section 3(f) of Executive Order 12866 and does not require an assessment of potential costs and benefits under section 6(a)(3) of that Order. It has not been reviewed by the Office of Management and Budget under that Order. It is not significant under the regulatory policies and procedures of the Department of Transportation (DOT) (44 FR 11040, February 26, 1979). The Coast Guard expects the economic impact of this final rule to be so minimal that a full Regulatory Evaluation under paragraph 10e of the regulatory policies and procedures of DOT is unnecessary. This finding is based on the following: This is an annual marine event currently published in 33 CFR 100.121, this final rule will close a smaller portion of the Hudson River, and the minimal time on a Sunday morning that vessels will be restricted from the zone. Recreational vessels may still transit to the east of the zone during the event and will not be precluded from mooring at or getting underway from recreational piers in the vicinity of the zone. Commercial vessels can plan their transits up the river around the time the zone is in effect as they will have advance notice of this annual event, and advance notifications which will be made.

Small Entities

Under the Regulatory Flexibility Act (5 U.S.C. 601 et seq.), the Coast Guard considered whether this final rule will have a significant economic impact on a substantial number of small entities. “Small entities” include small businesses, not-for-profit organizations that are independently owned and operated and are not dominant in their fields, and governmental jurisdictions with populations of less than 50,000.

For reasons discussed in the Regulatory Evaluation above, the Coast Guard certifies under section 605(b) of the Regulatory Flexibility Act (5 U.S.C. 601 et seq.) that this final rule will not have a significant economic impact on a substantial number of small entities.

Collection of Information

This final rule does not provide for a collection of information under the Paperwork Reduction Act of 1995 (44 U.S.C. 3501 et seq.).

Federalism

The Coast Guard has analyzed this final rule under the principles and criteria contained in Executive Order 13132 and has determined that this final rule does not have implications for federalism under that Order.

Unfunded Mandates

Title II of the Unfunded Mandates Reform Act of 1995 (UMRA) [Pub. L. 104-4, 109 Stat. 48] requires Federal agencies to assess the effects of certain regulatory actions on State, local, and tribal governments, and the private sector. UMRA requires a written statement of economic and regulatory alternatives for rules that contain Federal mandates. A Federal mandate is a new or additional enforceable duty imposed on any State, local, or tribal government, or the private sector. If any Federal mandate causes those entities to spend, in the aggregate, $100 million or more in any one year, the UMRA analysis is required. This final rule does not impose Federal mandates on any State, local, or tribal governments, or the private sector.

Environment

The Coast Guard considered the environmental impact of this final rule and concluded that under figure 2-1, paragraph 34(g), of Commandant Instruction M16475.1C, this final rule is categorically excluded from further environmental documentation. This rule fits paragraph 34(g) as it establishes a safety zone. A “Categorical Exclusion Determination” is available in the docket for inspection or copying where indicated under ADDRESSES.

List of Subjects in 33 CFR Part 165

Harbors, Marine Safety, Navigation (water), Reporting and recordkeeping requirements, Security measures, Waterways.

Regulation

For the reasons discussed in the preamble, the Coast Guard amends 33 CFR Part 165 as follows:

PART 165—[AMENDED]

1. The authority citation for Part 165 continues to read as follows:

Authority: 33 U.S.C. 1231; 50 U.S.C. 191; 33 CFR 1.05-1(g), 6.04-1, 6.04-6, 160.5; 49 CFR 1.46.

2. Add temporary § 165.T01-160 to read as follows:

§ 165.T01-160 Safety Zone: Hudson Valley Triathlon, Hudson River, Ulster Landing, NY.

(a) Location. The following area is a safety zone: All waters of the Hudson River, in the vicinity of Ulster Landing, bound by the following points: 41°59′52.5′′ N 073°56′34.2′′ W (about 150 yards south of Hudson River Lighted Buoy 82 (LLNR 38325)), thence to 42°00′15.1′′ N 073°56′25.2′′ W, thence to 42°00′05.4′′ N 073°56′41.9′′ W, thence to 42°00′03.7′′ N 073°56′43.1′′ W, (NAD 1983), thence back to the point of beginning, in the northern end of Barrytown Reach.

(b) Effective period. This section is effective from 6:30 a.m. (e.s.t.) until 8:30 a.m. (e.s.t.) on July 9, 2000. There is no rain date for this event.

(c) Regulations. (1) The general regulations contained in 33 CFR 165.23 apply.

(2) All persons and vessels shall comply with the instructions of the Coast Guard Captain of the Port or the designated on-scene-patrol personnel. These personnel comprise commissioned, warrant, and petty officers of the Coast Guard. Upon being hailed by a U. S. Coast Guard vessel by siren, radio, flashing light, or other means, the operator of a vessel shall proceed as directed.

Dated: June 27, 2000.
R.E. Bennis,
Captain, U. S. Coast Guard, Captain of the Port, New York.

[FR Doc. 00-16889 Filed 7-3-00; 8:45 am]

BILLING CODE 4910-IS-P